DEPARTMENT OF THE INTERIOR

National Park Service

[NPS-WASO-OPSM-19986; PPWOCOMPP0, PEA001T01.ZA0000 (166)]

Information Collection Request Sent to the Office of Management and Budget (OMB) for Approval; National Park Service Lost and Found Report

AGENCY: National Park Service, Interior.

ACTION: Notice; request for comments.

SUMMARY: We (National Park Service, NPS) have sent an Information Collection Request (ICR) to OMB for review and approval. We summarize the ICR below and describe the nature of the collection and the estimated burden and cost. We may not conduct or sponsor and a person is not required to respond to a collection of information unless it displays a currently valid OMB control number.

DATES: You must submit comments on or before October 24, 2016.

ADDRESSES: Send your comments and suggestions on this information collection to the Desk Officer for the Department of the Interior at OMB-OIRA at (202) 395-5806 (fax) or OIRA_Submission@omb.eop.gov (email). Please provide a copy of your comments to Madonna L. Baucum, Information Collection Clearance Officer, National Park Service, 12201 Sunrise Valley Drive, Mail Stop 242, Reston, VA 20192 (mail); or madonna_baucum@nps.gov (email). Please include “1024-New Form 10-166” in the subject line of your comments. You may review the ICR online at http://www.reginfo.gov. Follow the instructions to review Department of the Interior collections under review by OMB.

FOR FURTHER INFORMATION CONTACT: To request additional information about this IC, please contact Frances Hill, Manager, Office of Property Management, National Park Service, 13461 Sunrise Valley Drive, Herndon, VA 20171-3272 (mail); or frances_hill@nps.gov (email).

SUPPLEMENTARY INFORMATION:

I. Abstract

The NPS Organic Act of 1916 (Organic Act) (54 U.S.C. 100101 et seq.; Pub. L. 113-287), requires that the NPS preserve national parks for the enjoyment, education, and inspiration of this and future generations. The NPS cooperates with partners to extend the benefits of natural and cultural resource conservation and outdoor recreation throughout this country and the world. Each year, visitors to the various units of the National Park System file reports of lost or found items.

Reporting of lost or found personal property in national parks is governed by 36 CFR 2.22, “Disposition of Property” which requires unattended property be impounded and deemed to be abandoned unless claimed by the owner or an authorized representative within 60 days. The 60-day period commences upon notification to the rightful owner of the property, if the owner can be identified, or from the time the property was placed in the superintendent's custody, if the owner cannot be identified.

Unclaimed property must be stored for a minimum period of 60 days and unless claimed by the owner or an authorized representative, may be claimed by the finder, provided the finder is not an employee of the National Park Service (NPS). Found property not claimed by the owner, an authorized representative of the owner, or the finder, shall be deemed abandoned and disposed of in accordance with Title 41 Code of Federal Regulations.

In order to comply with the requirements of 36 CFR 2.22, the NPS utilizes NPS Form 10-166, “Lost-Found Report” to allow the park to properly identify personal property reported as lost or found and to return found items to the legitimate owner, when possible, or to the finder if the item is not claimed by the owner or their authorized representative. NPS Form 10-166 collects the following information from the visitor filing the report:

• Park name, receiving station (if appropriate), and date item was lost or found;

• Name, address, city, state, zip code, email address, and contact phone numbers (cell and home);

• Type of item, detailed description of item, and location where the item was last seen or found;

• Photograph of item (if available); and

II. Data

OMB Control Number: 1024—New.

Title: National Park Service Lost and Found Report.

Service Form Number(s): Form 10-166.

Type of Request: Existing collection in use without an OMB control number.

Description of Respondents: Visitors of NPS units who file reports of lost or found items.

Respondent's Obligation: Voluntary.

Frequency of Collection: On occasion.

Activity | Number of responses | Completion time per response (hours) | Total annual burden hours
NPS Form 10-166, “Lost-Found Report” | 7,500 | 5 min | 625
Totals | 7,500 |  | 625

Estimated Annual Nonhour Burden Cost: None.

III. Comments

On June 10, 2015, we published in the Federal Register (80 FR 32977) a notice of our intent to request that OMB approve this information collection. In that notice, we solicited comments for 60 days, ending on August 10, 2015. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB and us in your comment to withhold your personal identifying information from public review, we cannot guarantee that it will be done.

Dated: September 16, 2016.
Madonna L. Baucum,
Information Collection Clearance Officer, National Park Service.

[FR Doc. 2016-22805 Filed 9-21-16; 8:45 am]

BILLING CODE 4310-EH-P